DEPARTMENT OF LABOR

Employment and Training Administration

Agency Information Collection Activities; Comment Request for State Retention of Applications and Job Orders

ACTION: Notice.

SUMMARY: The Department of Labor (DOL) is soliciting comments concerning a proposed extension without changes of the data retention required by CFR 652.8(d)(5) of the Wagner-Peyser Act. This comment request is part of continuing Departmental efforts to reduce paperwork and respondent burden in accordance with the Paperwork Reduction Act of 1995 (PRA), 44 U.S.C. 3501 et seq.

DATES: Consideration will be given to all written comments received by May 17, 2016.

ADDRESSES: A copy of this ICR with applicable supporting documentation; including a description of the likely respondents, proposed frequency of response, and estimated total burden may be obtained free by contacting the U.S. Department of Labor, Employment and Training Administration, Attention: Adriana Kaplan, by telephone at (202) 693-3740 (this is not a toll free number), by email, at kaplan.adriana@dol.gov, TTY/TDD, 1-877-889-5627, (this is a toll-free number), by fax at (202) 693-3587, or by email at 200 Constitution Avenue NW., Room S-4209, Washington, DC 20210.

Authority: 44 U.S.C. 3506(c)(2)(A).

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

This ICR is related to Wagner-Peyser job order holds, i.e. States retaining applications and job orders for a minimum of one year.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Number 1205-0001.

Submitted comments will also be a matter of public record for this ICR and posted on the Internet, without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-Employment and Training Administration.

Type of Review: New, without changes.

Title of Collection: Work Application/Job Order Recordkeeping.

Form: 1205-0001.

OMB Control Number: 1205-0001.

Affected Public: State governments.

Estimated Number of Respondents: 52.

Frequency: On occasion.

Total Estimated Annual Responses: 52.

Estimated Average Time per Response: Variable.

Estimated Total Annual Burden Hours: 8 hours per state or 416.

Total Estimated Annual Other Cost Burden: $0.

Portia Wu,
Assistant Secretary for Employment and Training, Labor.

[FR Doc. 2016-06149 Filed 3-17-16; 8:45 am]

BILLING CODE 4510-FN-P